INTERNATIONAL TRADE COMMISSION

[Investigation Nos. 701-TA-571-572 (Final)]

Biodiesel From Argentina and Indonesia; Determinations

On the basis of the record ¹ developed in the subject investigations, the United States International Trade Commission (“Commission”) determines, pursuant to the Tariff Act of 1930 (“the Act”), that an industry in the United States is materially injured by reason of imports of biodiesel from Argentina and Indonesia, provided for in subheadings 3826.00.10 and 3826.00.30 of the Harmonized Tariff Schedule of the United States, that have been found by the Department of Commerce (“Commerce”) to be subsidized by the governments of Argentina and Indonesia.

¹ The record is defined in sec. 207.2(f) of the Commission's Rules of Practice and Procedure (19 CFR 207.2(f)).

Background

The Commission, pursuant to sections 705(b) of the Act (19 U.S.C. 1671d(b)), instituted these investigations effective March 23, 2017, following receipt of a petition filed with the Commission and Commerce by the National Biodiesel Board Fair Trade Coalition, Washington DC. The final phase of the investigations was scheduled by the Commission following notification of preliminary determinations by Commerce that imports of biodiesel from Argentina and Indonesia were subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on August 28, 2017 (82 FR 4399). The hearing was held in Washington, DC, on November 9, 2017, and all persons who requested the opportunity were permitted to appear in person or by counsel.

The Commission made these determinations pursuant to section 705(b) of the Act (19 U.S.C. 1671d(b)). It completed and filed its determinations in these investigations on December 21, 2017. The views of the Commission are contained in USITC Publication 4748 (December 2017), entitled Biodiesel from Argentina and Indonesia: Investigation Nos. 701-TA-571-572 (Final).

By order of the Commission.
Issued: December 21, 2017.
Jessica Mullan,
Attorney Advisor.

[FR Doc. 2017-27978 Filed 12-27-17; 8:45 am]

BILLING CODE 7020-02-P